DEPARTMENT OF STATE

[Public Notice 11827]

Determination Under Section 614(a)(1) and Section 506(a)(1) of the Foreign Assistance Act of 1961 To Provide Military Assistance to Ukraine

Pursuant to the authority vested in me by section 614(a)(1) of the Foreign Assistance Act of 1961 (the “Act”) (22 U.S.C. 2364(a)(1)) and Presidential Delegation of Authority dated May 19, 2022, I hereby determine that it is important to the security interests of the United States to furnish up to $100 million in assistance under the Act to Ukraine without regard to any other provision of law within the purview of section 614(a)(1) of the Act.

In addition, pursuant to the authority vested in me by section 506(a)(1) of the Act (22 U.S.C. 2318(a)(1)) and Presidential Delegation of Authority dated May 19, 2022, I also hereby determine that:

• an unforeseen emergency exists which requires immediate military assistance to Ukraine; and

• the emergency requirement cannot be met under the authority of the Arms Export Control Act or any other provision of law.

I, therefore, pursuant to authority delegated to me by the President, direct the drawdown of up to $100 million in defense articles and services of the Department of Defense, and military education and training, under the authorities of section 614(a)(1) and section 506(a)(1) of the Act to provide assistance to Ukraine. The Department of State will coordinate implementation of this drawdown.

This determination shall be reported to the Congress and published in the Federal Register.

Dated: May 19, 2022.
Antony J. Blinken,
Secretary of State.

[FR Doc. 2022-17820 Filed 8-18-22; 8:45 am]

BILLING CODE 4710-25-P